DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

2002 National Survey on Drug Use and Health—(OMB Number 0930-0110, Revision)—The National Survey on Drug Use and Health (NSDUH) [formerly the National Household Survey on Drug Abuse (NHSDA)] is a survey of the civilian, noninstitutionalized population of the United States 12 years old and older. The data are used to determine the prevalence of use of tobacco products, alcohol, illicit substances, and illicit use of prescription drugs. The results are used by SAMHSA, ONDCP, Federal government agencies, and other organizations and researchers to establish policy, direct program activities, and better allocate resources.

For the 2002 NSDUH, the modular components of the questionnaire will remain essentially unchanged except for minor modifications to wording. As with all NSDUH surveys conducted since 1999, the sample size of the survey for 2002 will be sufficient to permit prevalence estimates for each of the fifty states and the District of Columbia. The total annual burden estimate is 85,400 hours as shown below:

| Number of respondents | Responses/respondent | Average burden response (hrs.) | Total burden hours
Household Screening | 202,500 | 1 | 0.083 | 16,808
NHSDA Interview | 67,500 | 1 | 1.000 | 67,500
Screening Verification | 6,176 | 1 | 0.067 | 414
Interview Verification | 10,125 | 1 | 0.067 | 678
Total |  |  |  | 85,400

Written comments and recommendations concerning the proposed information collection should be sent within 30 days of this notice to: Lauren Wittenberg, Human Resources and Housing Branch, Office of Management and Budget, New Executive Office Building, Room 10235, Washington, DC 20503.

Dated: June 14, 2001.
Richard Kopanda,
Executive Officer, SAMHSA.

[FR Doc. 01-16394 Filed 6-28-01; 8:45 am]

BILLING CODE 4162-20-P